FEDERAL COMMUNICATIONS COMMISSION

47 CFR Part 73

[MB Docket Nos. 17-264, 17-105, 05-6; FCC 20-65, FRS 17553]

Filing of Applications; Modernization of Media Regulation Initiative; Revision of the Public Notice Requirements; Correction

AGENCY: Federal Communications Commission.

ACTION: Correcting amendment.

SUMMARY: On June 18, 2020, the Federal Communications Commission revised Commission rules. That document incorrectly listed a cross-reference. This document corrects the final regulations.

DATES: Effective March 19, 2021.

FOR FURTHER INFORMATION CONTACT: Albert Shuldiner, Chief, Media Bureau, Audio Division, (202) 418-2721; Thomas Nessinger, Senior Counsel, Media Bureau, Audio Division, (202) 418-2709.

SUPPLEMENTARY INFORMATION: This is a summary of the Commission's Erratum, FCC 20-65, published June 18, 2020 (85 FR 36786). This is the first set of corrections.

Because this change is editorial and non-substantive, we find good cause to conclude that notice and comment are unnecessary for its adoption. Because this rule change does not require notice and comment, the Regulatory Flexibility Act, 5 U.S.C. 601 et seq., does not apply. See id. section 601(2).

This Erratum does not contain new or modified information collection requirements subject to the Paperwork Reduction Act of 1995, Public Law 104-13. In addition, therefore, it does not contain any new or modified information collection burden for small business concerns with fewer than 25 employees, pursuant to the Small Business Paperwork Relief Act of 2002, Public Law 107-198; see 44 U.S.C. 3506(c)(4).

The Commission has determined, and the Administrator of the Office of Information and Regulatory Affairs, Office of Management and Budget, concurs that this rule is “non-major” under the Congressional Review Act, 5 U.S.C. 804(2). The Commission will send a copy of the Order to Congress and the Government Accountability Office pursuant to 5 U.S.C. 801(a)(1)(A).

Accordingly, it is ordered that, effective on the date of publication of this Erratum in the Federal Register, 47 CFR 73.3580(e)(2) of the rules is amended, as set forth herein, pursuant to the authority contained in sections 4(i) and 303(r) of the Communications Act of 1934, as amended, 47 U.S.C. 154(i), 303(r), and in sections 553(b)(3)(B) and 553(d)(3) of the Administrative Procedure Act, 5 U.S.C 553(b)(3)(B), 553(d)(3).

List of Subjects in 47 CFR Part 73

Cable television, Civil defense, Communications equipment, Defense communications, Education, Equal employment opportunity, Foreign relations, Mexico, Political candidates, Radio, Reporting and recordkeeping requirements, Satellites, Television.

Accordingly, 47 CFR part 73 is corrected by making the following correcting amendments:

PART 73—RADIO BROADCAST SERVICES

1. The authority citation for part 73 continues to read as follows:

Authority: 47 U.S.C. 154, 155, 301, 303, 307, 309, 310, 334, 336, 339.

2. Amend § 73.3580 by revising paragraph (e)(2) to read as follows:

§ 73.3580 Local public notice of filing of broadcast applications.

* * * * *

(e) * * *

(2) An applicant for renewal of a license that is required to maintain an online public inspection file shall, within seven (7) days of the last day of broadcast of the required on-air announcements, place in its online public inspection file a statement certifying compliance with this section, along with the dates and times that the on-air announcements were broadcast. An applicant for renewal of a license that is required to maintain an online public inspection file, and that is not broadcasting during all or a portion of the period during which on-air announcements are required to be broadcast, as set forth in paragraph (b)(1)(vi) of this section, shall, within seven (7) days of the last on-air announcement or last day of posting online notice, whichever occurs last, place in its online public inspection file a statement certifying compliance with this section, along with the dates and times that any on-air announcements were broadcast, along with the dates and times that online notice was posted and the Universal Resource Locator (URL) of the internet website on which online notice was posted. This certification need not be filed with the Commission but shall be retained in the online public inspection file for as long as the application to which it refers.

* * * * *

Federal Communications Commission.
Marlene Dortch,
Secretary.

[FR Doc. 2021-05434 Filed 3-18-21; 8:45 am]

BILLING CODE 6712-01-P